CONSUMER PRODUCT SAFETY COMMISSION

16 CFR Part 1101

Information Disclosure Under Section 6(b) of the Consumer Product Safety Act

CFR Correction

In Title 16 of the Code of Federal Regulations, Part 1000 to End, revised as of January 1, 2012, on page 147, in § 1101.25 (a) and (b), the words “5 working” are corrected to read “5”.

[FR Doc. 2012-25016 Filed 10-9-12; 8:45 am]

BILLING CODE 1505-01-D